ENVIRONMENTAL PROTECTION AGENCY

[EPA-HQ-OPP-2017-0440; FRL-10016-61-OMS]

Agency Information Collection Activities; Renewal Request Submitted to OMB for Review and Approval; Comment Request; Plant Incorporated Protectants; CBI Substantiation and Adverse Effects Reporting (Renewal)

AGENCY: Environmental Protection Agency (EPA).

ACTION: Notice.

SUMMARY: The Environmental Protection Agency (EPA) has submitted an information collection request (ICR), Plant Incorporated Protectants; CBI Substantiation and Adverse Effects Reporting (EPA ICR Number 1693.10, OMB Control Number 2070-0142) to the Office of Management and Budget (OMB) for review and approval in accordance with the Paperwork Reduction Act. This is a proposed extension of the ICR, which is currently approved through February 28, 2021. Public comments were previously requested via the Federal Register on August 17, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before January 19, 2021.

ADDRESSES: Submit your comments to EPA, referencing Docket ID No. EPA-HQ-OPP-2017-0440, online using www.regulations.gov. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Mission Support Division (7101M), Office of Program Support, Environmental Protection Agency, 1200 Pennsylvania Ave. NW, Washington, DC 20460-0001; telephone number: (703) 347-0159; email address: siu.carolyn@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA is responsible for the regulation of pesticides as authorized by Federal Insecticide, Fungicide, and Rodenticide Act (FIFRA). Prior to EPA granting a registration, the manufacturer of the pesticide must demonstrate to the Agency that the use of the pesticide product will not result in any unreasonable adverse effects to humans or the environment. EPA is also responsible under the Federal Food, Drug, and Cosmetic Act (FFDCA) for establishing a tolerance or exemption from the requirement of a tolerance for pesticide residues on food or feed.

Form Numbers: None.

Respondents/Affected entities: Pesticides and other agricultural chemical manufacturing, research and development in the physical, engineering, and life sciences, biological products (except diagnostic) manufacturing, colleges, universities, and professional schools, farm supplies wholesalers, flower, nursery stock, and florists' supplies (wholesalers).

Respondent's obligation to respond: Mandatory under FIFRA section 2 and applicable CBI requirements per 40 CFR part 2.

Estimated number of respondents: 25 (total).

Frequency of response: On occasion.

Estimated total burden: 518 hours (per year). Burden is defined at 5 CFR 1320.03(b).

Estimated total costs: $41,892 (per year), includes $0 annualized capital or operation & maintenance costs.

Changes in the estimates from the last approval: There are no changes in the estimates.

Courtney Kerwin,
Director, Regulatory Support Division.

[FR Doc. 2020-27801 Filed 12-16-20; 8:45 am]

BILLING CODE 6560-50-P